DEPARTMENT OF COMMERCE

National Oceanic and Atmospheric Administration

[RTID 0648-XC719]

East Coast Fisheries of the United States; Public Meeting

AGENCY: National Marine Fisheries Service (NMFS), National Oceanic and Atmospheric Administration (NOAA), Commerce.

ACTION: Notice; public meeting.

SUMMARY: Fishery management bodies on the East Coast of the United States are convening a meeting to continue work on an initiative called East Coast Climate Change Scenario Planning. This is a joint effort of the Atlantic States Marine Fisheries Commission, the New England Fishery Management Council, the Mid-Atlantic Fishery Management Council, the South Atlantic Fishery Management Council, and NOAA's National Marine Fisheries Service. See SUPPLEMENTARY INFORMATION for agenda details.

DATES: The meeting will be held Wednesday, February 15, 2023 through Thursday, February 16, 2023.

ADDRESSES: The meeting will be held at the Westin Arlington Gateway, 801 N Glebe Road, Arlington, VA 22203; telephone: (703) 717-6200. The meeting will be partially streamed by webinar for portions of the agenda that are held in plenary. Connection information will be posted to the calendar prior to the meeting at www.mafmc.org.

FOR FURTHER INFORMATION CONTACT: Christopher M. Moore, Ph.D., Executive Director, Mid-Atlantic Fishery Management Council, telephone: (302) 526-5255.

SUPPLEMENTARY INFORMATION: Climate change is a growing threat for marine fisheries worldwide. On the East coast of the United States, some species have already experienced considerable climate-related changes in distribution, abundance, and/or productivity. These changes have the potential to strain fisheries management and governance systems. Through the East Coast Climate Change Scenario Planning Initiative, fishery scientists and managers are working collaboratively and engaging diverse fishery stakeholders to explore possible future scenarios and the associated governance and management issues that may arise related to climate change.

The final stage of this initiative will include a two-day summit meeting in Arlington, VA, from February 15-16, 2023. Participants will consist of a select group of representatives from each of the three U.S. East Coast Fishery Management Councils, and from the Atlantic States Marine Fisheries Commission and NOAA Fisheries. Summit participants will consider the scenarios previously developed to describe how climate change might affect East Coast fisheries in the next 20 years, as well as input received in previous stages on actions that should be taken now to ensure that fisheries are governed and managed effectively in an era of climate change. The goal of the summit is to develop a set of potential governance and management actions and priorities resulting from the scenario planning process.

Summit participants have been selected by each participating organization. Others attending the meeting in person are invited to observe the plenary discussions and to provide comments during designated public comment opportunities. Only plenary sessions will be broadcast by webinar. Additional details about the summit will be posted to this page once available: https://www.mafmc.org/climate-change-scenario-planning.

Special Accommodations

These meetings are physically accessible to people with disabilities. Requests for sign language interpretation or other auxiliary aid should be directed to Shelley Spedden, (302) 526-5251, at least 5 days prior to the meeting date.

Authority: 16 U.S.C. 1801 et seq.

Dated: January 25, 2023.
Rey Israel Marquez,
Acting Deputy Director, Office of Sustainable Fisheries, National Marine Fisheries Service.

[FR Doc. 2023-01842 Filed 1-27-23; 8:45 am]

BILLING CODE 3510-22-P